ENVIRONMENTAL PROTECTION AGENCY

[ER-FRL-6619-4]

Environmental Impact Statements; Notice of Availability

Responsible Agency: Office of Federal Activities, General Information (202) 564-7167 www.epa.gov/oeca/ofa.

Weekly receipt of Environmental Impact Statements Filed June 18, 2001 Through June 22, 2001 Pursuant to 40 CFR 1506.9.

EIS No. 010226, Draft EIS, NPS, WY, Devil's Tower National Monument General Management Plan, Implementation, Crook County, WY, Comment Period Ends: August 13, 2001, Contact: Chas Cartwright (307) 467-5283.

EIS No. 010227, Draft EIS, MMS, CA, Delineation Drilling Activities in Federal Water Offshore, Santa Barbara County, Federal Outer Continental Shelf (OCS), Mobile Offshore Drilling Unit (MODU) Santa Barbara County, CA, Comment Period Ends: August 13, 2001, Contact: Archie Melancon (703) 787-1547.

EIS No. 010228, Draft EIS, COE, CA, Salinas Valley Water Project, Construction, Monterey County Water Resources Agency (MCWRA), Issuing of Permits or Approval of Action, Monterey and San Luis Obispo Counties, CA, Comment Period Ends: August 28, 2001, Contact: Robert Smith (415) 977-8450.

EIS No. 010229, Draft EIS, NOA, CA, San Francisco Bay National Estuarine Research Reserve, Proposes to Designate Three Sites: China Camp State Park, Brown's Island Regional Parks District, and Rush Ranch Open Space Preserve, Contra Costa, Marin and Solano Counties, CA, Comment Period Ends: August 17, 2001, Contact: Nina Garfield (301) 713-3132 ext. 171.

EIS No. 010230, Final EIS, DOE, AZ, Sundance Energy Project, Interconnecting a 600-megawatt Natural Gas-Fired, Simple Cycle Peaking Power Plant with Western's Electric Transmission System, Construction and Operation on Private Lands, Pinal County, AZ, Wait Period Ends: July 30, 2001, Contact: John Holt (602) 352-2592.

EIS No. 010231, Final EIS, BLM, MA, New Bedford Whaling National Historical Park, General Management Plan, Implementation, Bristol County, MA, Wait Period Ends: July 30, 2001, Contact: John Piltzecker (508) 996-4095.

EIS No. 010232, Final Supplement, FAA, IN, Indianapolis International Airport Master Plan Development, Updated Information to Construct a Midfield Terminal, Midfield Interchange, and Associated Developments, Airport Layout Plan Approval, Funding and Section 404 Permit, Marion County, IN, Wait Period Ends: July 30, 2001, Contact: Prescott C. Snyder (847) 294-7538.

EIS No. 010233, Draft EIS, EPA, FL, Tampa Bay Regional Reservoir Project, Construction and Operation of a 1100-acre Reservoir Facility, Hillsborough River, Tampa Bypass Canal and Alafia River, Hillsborough County, FL, Comment Period Ends: August 13, 2001, Contact: John Hamilton (404) 562-9617.

EIS No. 010234, Draft EIS, COE, CA, White Slough Flood Control Study, To Improve Tidal Circulation in the Slough, Continuing Authorities Program, Section 205, Vallejo Sanitation and Flood Control District, City of Vallejo, Solano County, CA, Comment Period Ends: August 13, 2001, Contact: Craig Vassel (415) 977-8546.

EIS No. 010235, Draft EIS, FHW, NY, Interstate 86/Route 15 Interchange and Route 15/Gang Mills Interchange, New Roadway and Ramp Construction, Intersection Reconstruction, New Bridges and Bridge Rehabilitation, Town of Erwin, Steuben County, NY, Comment Period Ends: September 05, 2001, Contact: Robert E. Arnold (518) 431-4127.

EIS No. 010236, Draft EIS, DOE, WA, Kangley-Echo Lake Transmission Line Project, Construct a New 500-kilovolt (kV) Transmission Line, COE Section 10 and 404 Permits, (DOE/EIS-0317), King County, WA, Comment Period Ends: August 13, 2001, Contact: Gene Lynard (503) 230-3790.

Amended Notices

EIS No. 010159, Draft Supplement, DOE, NV, Geologic Repository for the Disposal of Spent Nuclear Fuel and High-Level Radioactive Waste, Construction, Operation, Monitoring and Eventually Closing a Geologic Repository at Yucca Mountain, Updated and Additional Information, Nye County, NV, Due: July 06, 2001, Contact: Jane R. Summerson (702) 794-1493. Revision of FR Notice Published on 5/11/2001 and 6/22/2001: CEQ review period ends 07/06/2001; DOE will accept comments until 08/13/2001 from specific individuals who received a copy of the supplement with a June 22, 2001, letter from DOE. (See DOE FR Notice Published Today)

EIS No. 010145, Draft EIS, AFS, NY, Finger Lake National Forest, Oil and Gas Leasing, Exploration and Development, Approval and Authorization, Hector Ranger District, Seneca and Schuyler Counties, NY, Due: August 01, 2001, Contact: Martha Twarkins (607) 546-4470. Revision of FR Notice Published on 05/04/2001: CEQ Review Period Ending 07/03/2001 has been Extended to 08/01/2001.

Dated: June 26, 2001.
Joseph C. Montgomery,
Director, NEPA Compliance Division, Office of Federal Activities.

[FR Doc. 01-16459 Filed 6-28-01; 8:45 am]

BILLING CODE 6560-50-P